DEPARTMENT OF ENERGY

Federal Energy Regulatory Commission

[Project Nos. 12540-002; 12545-002; 12549-002]

Hydrodynamics, Inc.; Notice of Applications Accepted for Filing, Soliciting Motions To Intervene and Protests, Ready for Environmental Analysis, and Soliciting Comments, Terms and Conditions, Recommendations, and Prescriptions

August 14, 2008.

Take notice that the following hydroelectric applications have been filed with the Commission and are available for public inspection.

a. Type of Application: Minor unconstructed projects.

b. Projects Nos.: 12540-002, 12545-002, and 12549-002.

c. Date filed: March 31, 2008.

d. Applicant: Hydrodynamics, Inc.

e. Name of Projects: Woods, Johnson, and A-Drop.

f. Location: On the Greenfields Main Canal and the Greenfields South Canal, parts of the U. S. Bureau of Reclamation's existing Sun River Irrigation Project, in Cascade and Teton Counties, Montana, near Fairfield, Montana.

g. Filed Pursuant to: Federal Power Act 16 U.S.C. 791(a)-825(r)

h. Applicant Contact: Roger Kirk, Hydrodynamics, Inc., P.O. Box 1136, Bozeman, MT 59771, (406) 587-5086.

i. FERC Contact: Dianne Rodman, Federal Energy Regulatory Commission, 888 First Street, NE., Washington, DC 20426; telephone (202) 502-6077 or by e-mail at dianne.rodman@ferc.gov.

j. Deadline for filing motions to intervene and protests, comments, terms and conditions, recommendations, and prescriptions: 60 days from the issuance of this notice. All reply comments must be filed with the Commission within 105 days from the date of this notice.

All documents (original and eight copies) should be filed with: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Motions to intervene, protests, comments, terms and conditions, recommendations, and prescriptions may be filed electronically via the Internet in lieu of paper. The Commission strongly encourages electronic filings. See 18 CFR 385.2001(a)(1)(iii) and the instructions on the Commission's Web site (http://www.ferc.gov) under the “e-Filing” link.

k. The applications have been accepted for filing and are now ready for environmental analysis.

l. The proposed Woods Project would be built at the Greenfields Main Canal's Woods drop structure. The applicant proposes to construct: (1) An inflatable weir spanning the full width of the canal; (2) an intake structure with trash rack and radial gate or stop-log shut off; (3) a buried, 72-inch-diameter, 750-foot-long steel or polyethylene penstock; (4) a powerhouse containing one Francis or propeller (Reaction) turbine and one generator with a rated output of 900 kilowatts (kW); (5) a tailrace returning flows to the canal; (6) a switchyard; and (7) a 376-foot-long, 69-kilovolt (kV) transmission line interconnecting with an existing powerline. Average annual generation would be 2.2 gigawatt-hours (GWh).

The proposed Johnson Project would be built at the Greenfields South Canal's Johnson drop structure. The applicant proposes to construct: (1) An inflatable weir spanning the width of the canal; (2) an intake structure with trash rack and radial gate or stop-log shut off; (3) a buried, 60-inch-diameter, 900-foot-long steel or polyethylene penstock; (4) a powerhouse containing one Francis or propeller (Reaction) turbine and one generator with a rated output of 700 kW; (5) a tailrace returning flows to the canal; (6) a switchyard; (7) a 1,024-foot-long, 69-kV transmission line interconnecting with an existing powerline; and (8) a powerhouse access road. Average annual generation would be 1.7 GWh.

The proposed A-Drop Project would be built at the Greenfields Main Canal's Greenfield drop structure. The applicant proposes to construct: (1) An inflatable weir spanning the width of the canal; (2) an intake structure with trash rack and radial gate or stop-log shut off; (3) a buried, 96-inch-diameter, 830-foot-long steel or polyethylene penstock; (4) a powerhouse containing one Francis or propeller (Reaction) turbine and one generator with a rated output of 1,000 kW; (5) a tailrace returning flows to the canal; (6) a switchyard; (7) a buried 144-foot-long, 12-kV transmission line interconnecting with an existing powerline; and (8) an approximately 730-foot-long powerhouse access road. Average annual generation would be 2.5 GWh.

m. Copies of the applications are available for review at the Commission in the Public Reference Room or may be viewed on the Commission's Web site at http://www.ferc.gov using the “eLibrary” link. Enter the docket number, excluding the last three digits, in the docket number field to access each of the documents. For assistance, contact FERC Online Support at FERCOnlineSupport@ferc.gov or toll-free at 1-866-208-3676, or for TTY, (202) 502-8659. Copies are also available for inspection and reproduction at the address in item h above.

Register online at http://www.ferc.gov/docs-filing/esubscription.asp to be notified via e-mail of new filings and issuances related to this or other pending projects. For assistance, contact FERC Online Support.

n. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant named in this public notice.

Anyone may submit comments, a protest, or a motion to intervene in accordance with the requirements of Rules of Practice and Procedure, 18 CFR 385.210, 385.211, and 385.214. In determining the appropriate action to take, the Commission will consider all protests or other comments filed, but only those who file a motion to intervene in accordance with the Commission's Rules may become a party to the proceedings. Any comments, protests, or motions to intervene must be received on or before the specified comment date for the particular application.

All filings must (1) Bear in all capital letters the title “PROTEST”, “MOTION TO INTERVENE”, “NOTICE OF INTENT TO FILE COMPETING APPLICATION”, “COMPETING APPLICATION”, “COMMENTS”, “REPLY COMMENTS”, “RECOMMENDATIONS”, “TERMS AND CONDITIONS”, or “PRESCRIPTIONS”; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the applications directly from the applicant. A copy of any protest or motion to intervene must be served upon each representative of the applicant specified in the particular application. A copy of all other filings in reference to these applications must be accompanied by proof of service on all persons listed in the service lists prepared by the Commission in these proceedings, in accordance with 18 CFR 4.34(b) and 385.2010.

o. A license applicant must file no later than 60 days following the date of issuance of this notice: (1) A copy of the water quality certification(s); (2) a copy of the request(s) for certification, including proof of the date on which the certifying agency received the request(s); or (3) evidence of waiver(s) of water quality certification.

Nathaniel J. Davis, Sr.,
Deputy Secretary.

[FR Doc. E8-19471 Filed 8-21-08; 8:45 am]

BILLING CODE 6717-01-P